DEPARTMENT OF THE INTERIOR

Bureau of Land Management

[LLORV05000 L16100000.DO0000 LX.SS.054H0000.HAG11-0127]

Notice of Availability of the Draft Baker Resource Management Plan and Environmental Impact Statement, Oregon/Washington

AGENCY: Bureau of Land Management, Interior.

ACTION: Notice.

SUMMARY: In accordance with the National Environmental Policy Act of 1969 (NEPA), as amended, and the Federal Land Policy and Management Act of 1976 (FLPMA), as amended, the Bureau of Land Management (BLM) has prepared a Draft Resource Management Plan (RMP) and Draft Environmental Impact Statement (EIS) for the Baker Resource Area of the BLM Vale District and, by this notice, is announcing the opening of the comment period.

DATES: To ensure that comments will be considered, the BLM must receive written comments on the Draft RMP/EIS within 90 days following the date the Environmental Protection Agency publishes this notice of the Draft RMP/EIS in the Federal Register. The BLM will announce future meetings or hearings and any other public participation activities at least 15 days in advance through public notices, media releases, and/or mailings.

ADDRESSES: You may submit comments related to the Draft Baker RMP/EIS by any of the following methods:

• Web site: http://www.blm.gov/or/districts/vale/plans/bakerrmp/contact.php.

• Email: BakerRMP@blm.gov.

• Fax: (541) 523-1965.

• Mail: Bureau of Land Management, Baker Field Office, P.O. Box 947, Baker City, Oregon 97814.

Copies of the Draft RMP/EIS are available in the Baker Field Office at the above address or may be viewed at: http://www.blm.gov/or/districts/vale/plans/bakerrmp/index.php.

FOR FURTHER INFORMATION CONTACT: Allison Kuehl, RMP Team Leader, at (541) 523-1931 or Ted Davis, BLM Baker Field Manager, at (541) 523-1431 at the above mailing address or via email at BakerRMP@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The Planning Area is located in Baker, Malheur, Union, Wallowa, Morrow, and Umatilla Counties in Oregon and in Asotin County, Washington. This planning activity encompasses approximately 428,425 acres of public lands. The RMP will fulfill the needs and obligations set forth by NEPA, FLPMA, and BLM management policies. This Baker RMP/EIS will revise the existing Baker RMP of 1989 and provide the Baker Field Office with an updated framework in which to administer public lands. This RMP/EIS addresses new issues, changes in resource conditions, and changes in resource management practices since the Baker RMP of 1989.

The Draft RMP/EIS was developed through a collaborative planning process. Formal scoping for public comments began with the publication of the Notice of Intent, a legal document notifying the public and any affected agencies of the intent to revise the 1989 RMP and prepare an EIS. The notice includes draft planning criteria for review and was published in the Federal Register on January 15, 2008 (73 FR 2520). Public scoping meetings and comment solicitation began on June 25, 2008, and ended on August 31, 2008.

Scoping events included open houses in nine communities, attendance at local government meetings in six communities, a mailing of 1,188 letters soliciting written comments, a Web site, plus meetings and conversations with various Federal and State government agencies. All Tribes with lands or with interest in lands within the BLM Baker Field Office Planning Area were invited to participate in the planning process. Three Tribes responded to the BLM's offer, and scoping presentations were made to those Tribes. Consultation with these Tribal governments will be ongoing.

The information obtained from the scoping process was used to define the relevant issues that are addressed in a range of alternative management actions, the environmental impacts of which are analyzed in the Draft EIS. Based on the scoping comments received and their subsequent analysis and evaluation, four major planning issues were identified as being within the scope of the BLM Baker Field Office Draft RMP/EIS.

• Issue 1: Landscape Health/Land Use—How should the diverse landscapes and resources within the Planning Area be managed?

• Issue 2: Renewable Energy Development—How should the BLM Baker Field Office manage renewable energy development?

• Issue 3: Transportation and Access—How should the BLM Baker Field Office manage transportation and access?

• Issue 4: Livestock Grazing—How will livestock grazing on public lands be addressed?

All four issues center on the larger question of just how much resource use and human activity is acceptable, while still providing the mandated level of resource protection.

In addition to the existing no-action alternative, five action alternatives and one sub-alternative were developed to respond to these key issues. The alternatives also address the following: Vegetation and soils, fire management, water quality/aquatic resources/fisheries, wildlife, recreation, visual resources, minerals, lands and realty, special management areas, climate change, lands with wilderness characteristics, and Tribal-government and community interests.

Special management areas considered in the Draft RMP/EIS include wild and scenic rivers, wilderness study areas, areas of critical environmental concern (ACEC), research natural areas (RNA), national historic trails, backcountry byways, and lands with wilderness characteristics. The BLM Baker Field Office intends to apply appropriate management to these areas to protect the values and resources for which they were designated. The BLM Baker Field Office considered carrying forward or dropping current administrative designations (i.e., ACECs and RNAs), depending on whether or not they still meet the criteria for which they were originally designated. Additional areas were nominated for designation as ACECs and those that met relevance and importance criteria and merit special management are proposed for designation in the Draft RMP/EIS. The BLM Baker Field Office conducted an inventory of rivers and streams to determine eligibility and suitability for inclusion into the National Wild and Scenic Rivers System for designation by Congress and drafted interim management prescriptions for the waterway segment determined “suitable” in the planning process. Wilderness-character inventory maintenance was completed for the Decision Area. This inventory identified lands with wilderness characteristics on 3,380 acres contiguous with BLM Wilderness Study Areas and 9,843 acres adjacent to U.S. Forest Service potential Wilderness Areas. The Draft EIS considers a range of management alternatives for these lands with wilderness characteristics.

Following the close of the public review and comment period, public comments will be used to revise the BLM Baker Field Office Draft RMP/EIS in preparation for its release to the public as the BLM Baker Field Office Proposed RMP and Final EIS. The BLM will respond to each substantive comment by making appropriate revisions to the document or by explaining why a comment did not warrant a change. Notice of the availability of the Proposed RMP and Final EIS will be posted in the Federal Register.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Edward W. Shepard,
State Director, Oregon/Washington.

[FR Doc. 2011-30212 Filed 11-23-11; 8:45 am]

BILLING CODE 4310-33-P